FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than July 28, 2005.

A. Federal Reserve Bank of Richmond (A. Linwood Gill, III, Vice President) 701 East Byrd Street, Richmond, Virginia 23261-4528:

1. Charles Walters, Greenville, South Carolina; Charles Walters Ltd., Partnership, Greenville, South Carolina; Roger Walters, Cashiers, North Carolina; Jacqueline Walters, Cashiers, North Carolina; James Walters, Gainesville, Georgia; Phoenix Financial Holdings, Inc., Gainesville, Georgia; and Walters Income Properties, LP, Gainesville, Georgia, as a group acting in concert; to retain voting shares of Independence Bancshares, Inc., Greenville, South Carolina, and thereby indirectly retain voting shares of Independence National Bank, Greenville, South Carolina.

B. Federal Reserve Bank of Minneapolis (Jacqueline G. King, Community Affairs Officer) 90 Hennepin Avenue, Minneapolis, Minnesota 55480-0291:

1. David A. Callies, Howard, South Dakota; Charles L. Christensen, Arlington, South Dakota; Blaine M. Hoff, Volga, South Dakota; Craig H. Steen, Volga, South Dakota; Lyle S. Strande, Volga, South Dakota; and Janelle M. Thompson, Bruce, South Dakota, as a group acting in concert, and Van Dusen Fishback, Brookings, South Dakota, as an individual; to acquire voting shares of North Central Financial Services, Inc., Volga, South Dakota, and thereby indirectly acquire voting shares of First National Bank of Volga, Volga, South Dakota.

Board of Governors of the Federal Reserve System, July 8, 2005.
Robert deV. Frierson,
Deputy Secretary of the Board.

[FR Doc. 05-13772 Filed 7-12-05; 8:45 am]

BILLING CODE 6210-01-S